DEPARTMENT OF AGRICULTURE

Re-Establishment of and Notice for Solicitation for the Council for Native American Farming and Ranching

AGENCY: Office of the Secretary, USDA.

ACTION: Notice of amended call for nominations.

SUMMARY: The USDA announces that it is extending the solicitation period for applications published in notice FR Doc. 2016-16099 for individuals to be considered for membership. Candidates who wish to be apply and be considered on the Council for Native American Farmers and Ranchers must submit an AD-755 application form and resume to the Secretary of Agriculture. Cover letters should be addressed to the Secretary of Agriculture. The application form can be found at: http://www.usda.gov/documents/OCIO_AD_755_Master_2012.pdf.

DATES: Submit nominations on or before September 22, 2016.

ADDRESSES: All nomination materials should be mailed in a single, complete package and postmarked by 45 days of this announcement. All nominations for membership should be sent to: Thomas Vilsack, Secretary, U.S. Department of Agriculture, 1400 Independence Avenue SW., Washington, DC 20250, Attn: Office of Tribal Relations. Send comments to the Office of Tribal Relations, 500A Whitten Building, 1400 Independence Avenue SW., Washington DC 20250.

FOR FURTHER INFORMATION CONTACT: Josiah Griffin, Acting Designated Federal Officer, Council for Native American Farming and Ranching. Email your questions to Josiah Griffin at tribal.relations@osec.usda.gov or call 202-205-2249.

SUPPLEMENTARY INFORMATION: In accordance with the provisions of the Federal Advisory Council Act (FACA) as amended (5 U.S.C. App. 2) and with the concurrence of the General Services Administration, the Department of Agriculture (USDA) is announcing the re-establishment of the advisory Council for Native American Farmers and Ranchers (Council). The Council is a discretionary advisory committee that operates under the provisions of the FACA and reports to the Secretary of Agriculture. The purpose of this Council is: (1) To advise the Secretary of Agriculture on issues related to the participation of Native American farmers and ranchers in USDA programs; (2) to transmit recommendations concerning any changes to regulations or internal guidance or other measures that would eliminate barriers to program participation for Native American farmers and ranchers; (3) to examine methods of maximizing the number of new farming and ranching opportunities created through enhanced extension, sound conservation practices, targeted rural business services, and financial literacy services; (4) to examine methods of encouraging intergovernmental cooperation to mitigate the effects of land tenure and probate issues on the delivery of USDA programs; (5) to evaluate other methods of creating new farming or ranching opportunities for Native American producers; and (6) to address other Native American related issues as deemed appropriate.

The Council has 15 members, 11 of whom will be Native American leaders or persons who represent the interests of Native American tribes or Native American organizations. The term “Native American leaders” is not limited to elected Tribal representatives or members or persons with Native American ancestry. The remaining four members are the following high-ranking USDA officials: (1) Director, Office of Tribal Relations; (2) Administrator, Farm Service Agency; (3) Chief, Natural Resources and Conservation Services; and (4) Assistant Secretary, Office of the Assistant Secretary for Civil Rights.

Members serve without compensation, but may receive reimbursement for travel expenses and per diem in accordance with USDA travel regulations for attendance at Council functions. Council members who represent the interests of Native American farmers and ranchers may also be paid an amount not less than $100 per day for time spent away from their employment or farming or ranching operation, subject to the availability of funds. Members may include:

(1) Native American farmers or ranchers who have participated in USDA loan, grant, conservation, or payment programs;

(2) Representatives of organizations with a history of working with Native American farmers or ranchers;

(3) Representatives of tribal governments with demonstrated experience working with Native American farmers or ranchers; and

(4) Such other persons as the Secretary considers appropriate.

The Secretary of Agriculture invites those individuals, organizations, and groups affiliated with the categories listed above or who have knowledge of issues related to the purpose of the Council to nominate individuals for membership on the Council. Individuals and organizations who wish to nominate experts for this or any other USDA advisory committee should submit a letter to the Secretary listing these individuals' names and business address, phone, and email contact information. The Secretary of Agriculture seeks a diverse group of members representing a broad spectrum of persons interested in providing suggestions and ideas on how USDA can tailor its farm programs to meet the needs of Native American farmers and ranchers. Individuals receiving nominations will be contacted and asked to return the AD-755 application form and a resume within 10 business days of notification. All candidates will be vetted and considered for appointment by the Secretary of Agriculture. Equal opportunity practices will be followed in all appointments to the Council in accordance with USDA policies. The Council will meet at least once per fiscal year.

Dated: August 29, 2016.
Sedelta Oosahwee,
Acting Director.

[FR Doc. 2016-21280 Filed 9-2-16; 8:45 am]

BILLING CODE 3410-01-P